DEPARTMENT OF COMMERCE

International Trade Administration

[C-489-806]

Certain Pasta from Turkey: Final Results of Countervailing Duty Administrative Review

AGENCY: Import Administration, International Trade Administration, Department of Commerce.

SUMMARY: On June 9, 2006, the U.S. Department of Commerce (“the Department”) published in the Federal Register its preliminary results of the administrative review of the countervailing duty order on certain pasta from Turkey for the period January 1, 2004, through December 31, 2004. See Certain Pasta From Turkey: Preliminary Results of Countervailing Duty Administrative Review, 71 FR 33439 (June 9, 2006) (“Preliminary Results”). We preliminarily found that Gidasa Sabanci Gida Sanayi ve Ticaret A.S. (“Gidasa”) did not receive countervailable subsidies during the period of review. We did not receive any comments on our preliminary results, and we have made no revisions.

EFFECTIVE DATE: September 7, 2006.

FOR FURTHER INFORMATION CONTACT: Audrey Twyman or Brandon Farlander, AD/CVD Operations, Office 1, Import Administration, International Trade Administration, U.S. Department of Commerce, 14th Street and Constitution Avenue, NW, Washington, DC 20230; telephone: (202) 482-3534 and (202) 482-0182, respectively.

SUPPLEMENTARY INFORMATION:

Background

On July 24, 1996, the Department published in the Federal Register the countervailing duty order on certain pasta from Turkey. See Notice of Countervailing Duty Order: Certain Pasta from Turkey, 61 FR 38546 (July 24, 1996). On June 9, 2006, the Department published in the Federal Register its preliminary results of the administrative review of the countervailing duty order on certain pasta from Turkey for the period January 1, 2004, through December 31, 2004. See Preliminary Results. In accordance with 19 CFR 351.213(b), this review of the order covers Gidasa, a producer and exporter of subject merchandise.

In the Preliminary Results, we invited interested parties to submit briefs or request a hearing. The Department did not conduct a hearing in this review because none was requested, and no briefs were received.

Scope of Order

Covered by the order are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this order is typically sold in the retail market, in fiberboard or cardboard cartons or polyethylene or polypropylene bags, of varying dimensions.

Excluded from the order are refrigerated, frozen, or canned pastas, as well as all forms of egg pasta, with the exception of non-egg dry pasta containing up to two percent egg white.

The merchandise under review is currently classifiable under subheading 1902.19.20 of the Harmonized Tariff Schedule of the United States (“HTSUS”). Although the HTSUS subheading is provided for convenience and customs purposes, our written description of the scope of the order is dispositive.

Scope Ruling

To date, the Department has issued the following scope ruling:

On October 26, 1998, the Department self-initiated a scope inquiry to determine whether a package weighing over five pounds as a result of allowable industry tolerances may be within the scope of the countervailing duty order. On May 24, 1999, we issued a final scope ruling finding that, effective October 26, 1998, pasta in packages weighing or labeled up to (and including) five pounds four ounces is within the scope of the countervailing duty order. See Memorandum from John Brinkmann to Richard Moreland, dated May 24, 1999, which is on file in the Central Records Unit (“CRU”) in Room B-099 of the main Commerce building.

Period of Review

The period of review (“POR”) for which we are measuring subsidies is from January 1, 2004, through December 31, 2004.

Final Results of Review

As noted above, the Department received no comments concerning the preliminary results; consistent with the preliminary results, we find that Gidasa did not receive countervailable subsidies during the POR. As there have been no changes or comments from the preliminary results we are not attaching a Decision Memorandum to this Federal Register notice. For further details of the programs included in this proceeding, see the Preliminary Results.

Company | Ad valorem rate
Gidasa Sabanci Gida Sanayi ve Ticaret A.S. | 0.00 percent

Assessment Rates/Cash Deposits

Because Gidasa did not receive countervailable subsidies during the POR, we will instruct U.S. Customs and Border Protection (“CBP”) to liquidate all of Gidasa's entries without regard to countervailing duties. Also, since Gidasa has a zero countervailable subsidy rate, the Department will instruct CBP to continue to suspend liquidation of entries, but to collect no cash deposits of estimated countervailing duties for Gidasa on all shipments of the subject merchandise that are entered, or withdrawn from warehouse, for consumption on or after the date of publication of the final results of this administrative review.

For all non-reviewed companies, the Department has instructed CBP to assess countervailing duties at the cash deposit rates in effect at the time of entry, for entries between January 1, 2004, and December 31, 2004. The cash deposit rates for all companies not covered by this review are not changed by the results of this review.

Return or Destruction of Proprietary Information

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: August 31, 2006.
David M. Spooner,
Assistant Secretary for Import Administration.

[FR Doc. E6-14844 Filed 9-6-06; 8:45 am]

BILLING CODE 3510-DS-S